DEPARTMENT OF ENERGY

Federal Energy Regulatory Commission

[Project No. 14692-000]

Albany Engineering Corporation; Notice of Preliminary Permit Application Accepted for Filing and Soliciting Comments, Motions To Intervene, and Competing Applications

On July 7, 2015, Albany Engineering Corporation filed an application for a preliminary permit, pursuant to section 4(f) of the Federal Power Act (FPA), proposing to study the feasibility of the Lyon Mountain Energy Storage Project (Lyon Mountain Project or project) to be located in the Hamlet of Lyon Mountain in the Town of Dannemora, Clinton County, New York. The sole purpose of a preliminary permit, if issued, is to grant the permit holder priority to file a license application during the permit term. A preliminary permit does not authorize the permit holder to perform any land-disturbing activities or otherwise enter upon lands or waters owned by others without the owners' express permission.

The proposed project would consist of the following: (1) Upper and lower reservoirs comprising various existing underground levels and voids within the rock confines of the Lyon Mountain mine; (2) two 15-foot-diameter, 2,000-foot-long vertical water conveyance structures between the upper reservoir and the powerhouse, consisting of grouted steel casings within existing bedrock; (3) a 15-foot-diameter, 2,000-foot-long horizontal water conveyance structure between the powerhouse and the lower reservoir, consisting of grouted steel casings within existing bedrock; (4) an 80-foot-wide by 300-foot-long by 40-foot-high underground powerhouse chamber; (5) an 40-foot-wide by 275-foot-long underground switchgear and equipment chamber; (6) 100 turbine-generators each rated at 2.4 megawatts; and (7) a 115-kilovolt (kV) transmission line approximately 1,000 feet long from the powerhouse to an existing transmission line. The estimated annual generation of the Lyon Mountain Project would be 421 gigawatt-hours.

Applicant Contact: Mr. James A. Besha, Albany Engineering Corporation, 5 Washington Square, Albany, NY 12205; phone: (518) 456-7712.

FERC Contact: Woohee Choi; phone: (202) 502-6336.

Deadline for filing comments, motions to intervene, competing applications (without notices of intent), or notices of intent to file competing applications: 60 days from the issuance of this notice. Competing applications and notices of intent must meet the requirements of 18 CFR § 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-14692-000.

More information about this project, including a copy of the application, can be viewed or printed on the “eLibrary” link of the Commission's Web site at http://www.ferc.gov/docs-filing/elibrary.asp. Enter the docket number (P-14692) in the docket number field to access the document. For assistance, contact FERC Online Support.

Dated: August 26, 2015.
Kimberly D. Bose,
Secretary.

[FR Doc. 2015-21594 Filed 8-31-15; 8:45 am]

BILLING CODE 6717-01-P